DEPARTMENT OF ENERGY

Federal Energy Regulatory Commission

[Project No. 2839-015]

Notice of Application Accepted for Filing, Soliciting Motions To Intervene and Protests, Ready for Environmental Analysis, and Soliciting Comments, Recommendations, Terms and Conditions, and Prescriptions, Village of Lyndonville Electric Department

Take notice that the following hydroelectric application has been filed with the Commission and is available for public inspection.

a. Type of Application: New Major License.

b. Project No.: 2839-015.

c. Date filed: May 26, 2017.

d. Applicant: Village of Lyndonville Electric Department (Lyndonville).

e. Name of Project: Great Falls Hydroelectric Project.

f. Location: On the Passumpsic River, in the Town of Lyndon, Caledonia County, Vermont. There are no federal or tribal lands within the project boundary.

g. Filed Pursuant to: Federal Power Act 16 U.S.C. 791(a)-825(r).

h. Applicant Contact: Mr. Bill Humphrey, Village of Lyndonville Electric Department, 119 Park Avenue, Lyndonville, VT 05851; (802) 626-3366.

i. FERC Contact: Bill Connelly, (202) 502-8587 or william.connelly@ferc.gov.

j. Deadline for filing motions to intervene and protests, comments, recommendations, terms and conditions, and prescriptions: 60 days from the issuance date of this notice; reply comments are due 105 days from the issuance date of this notice.

The Commission strongly encourages electronic filing. Please file motions to intervene and protests, comments, recommendations, terms and conditions, and prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-2839-015.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The existing Great Falls Project consists of: (1) A 160-foot-long, 32-foot-high curved, concrete dam with 2-foot-high flashboards; (2) an approximately 12-acre impoundment having a storage capacity of 135-acre-feet at a normal full pond water surface elevation of 668.38 feet above mean sea level; (3) a 6-foot-long, 15-foot-wide, 28-foot-high, concrete headworks structure with two 5-foot-wide, 8-foot-high wood and iron headgates; (4) an 8-foot-long, 8-foot-wide, 12-foot-high brick headworks gate house; (5) an approximately 282-foot-long, 22-foot-wide power canal that is covered for 70 feet; (6) one 4-foot-wide, 4-foot-high, wood and iron skimming sluice gate and one 4-foot-wide, 5-foot-high, wood and iron sand sluice gate; (7) a penstock intake with two 15-foot-wide, 22-foot-high trashracks with 1.5-inch clear bar spacing; (8) a 22.5-foot-long, 10-foot-diameter metal penstock that reduces to a 165-foot-long, 7.33-foot-diameter metal penstock that trifurcates to one 22-foot-long, 6-foot diameter, and two 9-foot-long, 3-foot-diameter penstocks; (9) a 47-foot-long, 25-foot-wide powerhouse containing a 1,350-kilowatt (kW) turbine-generator unit and a 40-foot-long, 40-foot-wide concrete powerhouse containing two 350-kW turbine-generator units, for a total capacity of 2,050-kW; (10) a 380-foot-long, 2.4-kilovolt (kV) above-ground transmission line that connects the turbine-generator leads to a substation step-up transformer where the project is interconnected with Lyndonville's distribution system; and (11) appurtenant facilities. Lyndonville operates the project in a run-of-river mode with an annual average energy production of approximately 3,960 megawatt-hours.

Lyndonville proposes to increase the existing year-round minimum flow to the bypassed reach from 10 cubic feet per second (cfs) to 62 cfs (or inflow, whichever is less) to maintain habitat for fish and aquatic organisms. In addition, Lyndonville proposes to continue to release a minimum flow of 75 cfs (or inflow, whichever is less) through the powerhouse during project shutdowns to protect fish and aquatic resources in the downstream reach. Lyndonville proposes to install an automatic pond level control system to improve control of impoundment levels and instantaneous run-of-river operation. Lyndonville also proposes to develop a minimum flow monitoring plan to ensure adequate flow is provided to the bypassed reach and downstream of the powerhouse.

Lyndonville also proposes several measures related to recreation resources, including: (1) Constructing and maintaining a new carry-in boat access trail downstream of the tailrace, on the west bank of the Passumpsic River; (2) designating a new bank fishing area; (3) installing a designated parking area outside of the project gates along the access road to the project; and (4) installing an informational kiosk identifying recreational amenities at the project. To evaluate the adequacy of project recreation facilities, Lyndonville proposes to conduct a recreation inventory, use and needs assessment within one year of completion of recreational improvements.

m. A copy of the application is available for review at the Commission in the Public Reference Room or may be viewed on the Commission's website at http://www.ferc.gov using the “eLibrary” link. Enter the docket number excluding the last three digits in the docket number field to access the document. For assistance, contact FERC Online Support. A copy is also available for inspection and reproduction at the address in item h above.

n. Anyone may submit comments, a protest, or a motion to intervene in accordance with the requirements of the Commission's Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST”, “MOTION TO INTERVENE”, “COMMENTS,” “REPLY COMMENTS,” “RECOMMENDATIONS,” “TERMS AND CONDITIONS,” or “PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

You may also register online at http://www.ferc.gov/docs-filing/esubscription.asp to be notified via email of new filings and issuances related to this or other pending projects. For assistance, contact FERC Online Support.

o. Procedural Schedule: The application will be processed according to the following revised schedule. Revisions to the schedule may be made as appropriate.

Milestone | Target date
Filing of recommendations, preliminary terms and conditions, and preliminary fishway prescriptions | February 2019.
Commission issues Environmental Assessment | August 2019.
Comments on Environmental Assessment | September 2019.

Final amendments to the application must be filed with the Commission no later than 30 days from the issuance date of this notice.

p. A license applicant must file no later than 60 days following the date of issuance of this notice: (1) A copy of the water quality certification; (2) a copy of the request for certification, including proof of the date on which the certifying agency received the request; or (3) evidence of waiver of water quality certification.

Dated: December 17, 2018.
Kimberly D. Bose,
Secretary.

[FR Doc. 2018-27650 Filed 12-20-18; 8:45 am]

BILLING CODE 6717-01-P